DEPARTMENT OF COMMERCE

National Oceanic and Atmospheric Administration

RIN 0648-XR46

Pacific Fishery Management Council; Public Meeting

AGENCY: National Marine Fisheries Service (NMFS), National Oceanic and Atmospheric Administration (NOAA), Commerce.

ACTION: Notice of a public meeting.

SUMMARY: The Pacific Fishery Management Council's (Pacific Council) Vessel Monitoring System Committee (VMSC) will hold a working meeting, which is open to the public.

DATES: The VMSC meeting will be held Tuesday, October 6, 2009, from 10 a.m. until business for the day is completed.

ADDRESSES: The VMSC meeting will be held at the Marriot Residence Inn, Portland Airport, Cascade Station, Mount Hood Room, 9301 NE Cascade Parkway, Portland, OR 97220; telephone: (503) 284-1800.

Council address: Pacific Fishery Management Council, 7700 NE Ambassador Place, Suite 101, Portland, OR 97220-1384.

FOR FURTHER INFORMATION CONTACT: Mr. Jim Seger, Staff Officer; telephone: (503) 820-2280.

SUPPLEMENTARY INFORMATION: The purpose of the VMSC meeting is to review performance of the VMS program and develop recommendations that might be implemented through the 2011-12 biennial specifications process. No management actions will be decided by the VMSC. The VMSC's role will be development of recommendations to be provided for consideration by the Pacific Council at its November 2009 Costa Mesa, CA.

Although non-emergency issues not contained in the meeting agenda may come before the VMSC for discussion, those issues may not be the subject of formal VMSC action during this meeting. VMSC action will be restricted to those issues specifically listed in this notice and any issues arising after publication of this notice that require emergency action under Section 305(c) of the Magnuson-Stevens Fishery Conservation and Management Act, provided the public has been notified of the VMSC's intent to take final action to address the emergency.

Special Accommodations

This meeting is physically accessible to people with disabilities. Requests for sign language interpretation or other auxiliary aids should be directed to Ms. Carolyn Porter at (503) 820-2280 at least 5 days prior to the meeting date.

Dated: September 3, 2009.
William D. Chappell,
Acting Director, Office of Sustainable Fisheries, National Marine Fisheries Service.

[FR Doc. E9-21672 Filed 9-4-09; 8:45 am]

BILLING CODE 3510-22-S